ENVIRONMENTAL PROTECTION AGENCY

[FRL-8917-4]

Notice of Open Meeting of the Environmental Financial Advisory Board (EFAB)

AGENCY: Environmental Protection Agency (EPA).

ACTION: Notice.

SUMMARY: The United States Environmental Protection Agency's (EPA) Environmental Financial Advisory Board (EFAB) will hold an open meeting on August 10-11, 2009. EFAB is an EPA advisory committee chartered under the Federal Advisory Committee Act (FACA) to provide advice and recommendations to EPA on creative approaches to funding environmental programs, projects, and activities.

A meeting of the full board will be held to discuss progress with work products under EFAB's current Strategic Action Agenda and develop an action agenda to direct the Board's ongoing and new activities through FY 2010.

Environmental Finance topics expected to be discussed include: Financial Assurance Mechanisms (Commercial Insurance & Cost Estimation); Financial Assurance and CO2 Underground Injection Control/Carbon Capture and Sequestration; Water Loss Reduction (“Leaky Pipes”); Innovative Financing Tools, and State Revolving Fund Investment Options.

This meeting is open to the public, however, seating is limited. All members of the public who wish to attend the meeting must register in advance, no later than Monday, July 27, 2009.

DATES: Full Board Meeting is scheduled for August 10, 2009 from 1 p.m.-5 p.m. and August 11, 2009 from 8:30 a.m.-5 p.m.

ADDRESSES: Omni San Francisco Hotel, 500 California Street, San Francisco, CA 94104.

Registration and Information Contact: To register for this meeting or get further information, please contact Sandra Keys, U.S. EPA, at (202) 564-4999 or keys.sandra@epa.gov. For information on access or services for individuals with disabilities, please contact Sandra Keys. To request accommodations for a disability, contact Sandra Keys at least 10 days prior to the meeting to give EPA as much time as possible to process your request.

Dated: June 4, 2009.
Joshua Baylson,
Acting Deputy Chief Financial Officer, Office of the Chief Financial Officer.

[FR Doc. E9-13731 Filed 6-10-09; 8:45 am]

BILLING CODE 6560-50-P